DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of two individuals whose property and interests in property have been blocked pursuant to the Foreign Narcotics Kingpin Designation Act (Kingpin Act) (21 U.S.C. 1901-1908, 8 U.S.C. 1182).

DATES: The designation by the Director of OFAC of the two individuals identified in this notice pursuant to section 805(b) of the Kingpin Act is effective on November 24, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On November 24, 2015, the Director of OFAC designated the following two individuals whose property and interests in property are blocked pursuant to section 805(b) of the Kingpin Act.

1. FERNANDEZ VALENCIA, Guadalupe (a.k.a. FERNANDEZ VALENCIA, Ma. Guadalupe; a.k.a. FERNANDEZ VALENCIA, Maria Guadalupe; a.k.a. “DON JULIO”; a.k.a. “JULIA”); DOB 29 Oct 1960; POB Aguililla, Michoacan de Ocampo, Mexico; citizen Mexico; Gender Female; R.F.C. FEVM601029EN3 (Mexico); C.U.R.P. FEVG601029MMNRLD10 (Mexico); alt. C.U.R.P. FEVG601029MMNRLD02 (Mexico) (individual) [SDNTK]. Designated for materially assisting in, or providing financial or technological support for or to, or providing services in support of, the international narcotics trafficking activities of the Sinaloa Cartel, Joaquin Guzman Loera, Ivan Archivaldo Guzman Salazar, and/or Jesus Alfredo Guzman Salazar, and/or being directed by, or acting for or on behalf of, the Sinaloa Cartel, Joaquin Guzman Loera, Ivan Archivaldo Guzman Salazar, and/or Jesus Alfredo Guzman Salazar.

2. VALENZUELA VERDUGO, Jorge Mario (a.k.a. “CHOCLOS”), Antonio Rosales 280, Centro Culiacan, Culiacan, Sinaloa 80000, Mexico; De Las Toronjas 1999, Culiacan, Sinaloa 80060, Mexico; Boulevard Constitucion 257 PTE, Colonia Jorge Almada, Culiacan, Sinaloa 80200, Mexico; Angel Flores 624, Colonia Centro, Culiacan, Sinaloa, Mexico; DOB 23 Oct 1982; POB Distrito Federal, Mexico; citizen Mexico; Gender Male; Cedula No. 09084650 (Mexico); R.F.C. VAVJ821023EL8 (Mexico); National ID No. 23038267151 (Mexico); C.U.R.P. VAVJ821023HDFLRR02 (Mexico) (individual) [SDNTK]. Designated for materially assisting in, or providing financial or technological support for or to, or providing services in support of, the international narcotics trafficking activities of the Sinaloa Cartel, Joaquin Guzman Loera, Ivan Archivaldo Guzman Salazar, Jesus Alfredo Guzman Salazar, and/or Victor Manuel Felix Beltran, and/or being directed by, or acting for or on behalf of, the Sinaloa Cartel, Joaquin Guzman Loera, Ivan Archivaldo Guzman Salazar, Jesus Alfredo Guzman Salazar, and/or Victor Manuel Felix Beltran.

Dated: November 24, 2015.
John E. Smith,
Acting Director, Office of Foreign Assets Control.

[FR Doc. 2015-30281 Filed 11-27-15; 8:45 am]

BILLING CODE 4810-AL-P